DEPARTMENT OF AGRICULTURE

Submission for OMB Review; Comment Request

May 20, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: BioRefinery Assistance Programs.

OMB Control Number: 0570-0055.

Summary of Collection: Title IX and section 9003 of the Food, Conservation, and Energy Act of 2008, authorize the Secretary of Agriculture to make loan guarantees for the development and construction of commercial-scale biorefineries and the retrofitting of existing facilities using eligible technology. The program will promote the development of the first commercial scale biorefineries that do not rely on corn kernel starch as the feedstock or standard biodiesel technology for the development of advanced biofuels, giving preference to projects where first-of-a-kind technology will be deployed at viable commercial-scale biorefineries.

Need and Use of the Information: Rural Business Service needs to receive the information contained in this collection of information to make prudent decisions regarding eligibility of applicants and selection priority among competing applicants, to ensure compliance with applicable laws and regulations and to evaluate the projects it believes will provide the most long-term economic benefit to rural areas.

Description of Respondents: Business or other for-profits; State, Local and Tribal Governments; Individuals.

Number of Respondents: 23.

Frequency of Responses: Reporting: Quarterly, Monthly, Annually.

Total Burden Hours: 2,617.

Charlene Parker,
Departmental Information Collection Clearance Officer.

[FR Doc. E9-12184 Filed 5-26-09; 8:45 am]

BILLING CODE 3410-XT-P